DEPARTMENT OF THE TREASURY

Open Meeting of the Advisory Committee on Risk-Sharing Mechanisms

AGENCY: Departmental Offices, U.S. Department of the Treasury.

ACTION: Notice of open meeting.

SUMMARY: This notice announces that the U.S. Department of the Treasury's Advisory Committee on Risk-Sharing Mechanisms (ACRSM) will convene a meeting on Wednesday, February 5, 2020, in the Cash Room, Room 2121, U.S. Department of the Treasury, 1500 Pennsylvania Ave. NW, Washington, DC 20220, from 2:30 p.m.-4:30 p.m. Eastern Time. The meeting is open to the public, and the site is accessible to individuals with disabilities.

DATES: The meeting will be held on Wednesday, February 5, 2020, from 2:30 p.m.-4:30 p.m. Eastern Time.

ADDRESSES: The ACRSM meeting will be held in Room 2121 (Cash Room), U.S. Department of the Treasury, 1500 Pennsylvania Ave. NW, Washington, DC 20220. The meeting will be open to the public. Because the meeting will be held in a secured facility, members of the public who plan to attend the meeting must either:

1. Register online. Attendees may visit http://www.cvent.com/d/phqvqx and fill out a secure online registration form. A valid email address will be required to complete online registration. (Note: Online registration will close at 5:00 p.m. Eastern Time on Thursday, January 30, 2020.)

2. Contact the Federal Insurance Office at (202) 622-2922, by 5:00 p.m. Eastern Time on Thursday, January 30, 2020, and provide registration information.

Requests for reasonable accommodations under Section 504 of the Rehabilitation Act should be directed to Mariam G. Harvey, Office of Civil Rights and Diversity, U.S. Department of the Treasury at (202) 622-0316, or mariam.harvey@do.treas.gov.

FOR FURTHER INFORMATION CONTACT: Richard Ifft, Senior Insurance Regulatory Policy Analyst, Federal Insurance Office, U.S. Department of the Treasury, 1500 Pennsylvania Ave. NW, Room 1410 MT, Washington, DC 20220, at (202) 622-2922 (this is not a toll-free number). Persons who have difficulty hearing or speaking may access this number via TTY by calling the toll-free Federal Relay Service at (800) 877-8339.

SUPPLEMENTARY INFORMATION: Notice of this meeting is provided in accordance with the Federal Advisory Committee Act, 5 U.S.C. App. 10(a)(2), through implementing regulations at 41 CFR 102-3.150.

Public Comment: Members of the public wishing to comment on the business of the ACRSM are invited to submit written statements by any of the following methods:

Electronic Statements

• Send electronic comments to acrsm@treasury.gov.

Paper Statements

• Send paper statements in triplicate to the Advisory Committee on Risk-Sharing Mechanisms, U.S. Department of the Treasury, 1500 Pennsylvania Ave. NW, Room 1410 MT, Washington, DC 20220.

In general, the U.S. Department of the Treasury will post all statements on its website https://home.treasury.gov/policy-issues/financial-markets-financial-institutions-and-fiscal-service/federal-insurance-office/terrorism-risk-insurance-program/advisory-committee-on-risk-sharing-mechanisms-acrsm without change, including any business or personal information provided such as names, addresses, email addresses, or telephone numbers. The U.S. Department of the Treasury will also make such statements available for public inspection and copying in the U.S. Department of the Treasury's Library, 720 Madison Place NW, Room 1020, Washington, DC 20220, on official business days between the hours of 10:00 a.m. and 5:00 p.m. Eastern Time. You can make an appointment to inspect statements by telephoning (202) 622-2000. All statements received, including attachments and other supporting materials, are part of the public record and subject to public disclosure. You should submit only information that you wish to make available publicly.

Background: The ACRSM provides advice and recommendations to the Federal Insurance Office (FIO) with respect to the creation and development of non-governmental, private market risk-sharing mechanisms for protection against losses arising from acts of terrorism.

Tentative Agenda/Topics for Discussion: This will be the first ACRSM meeting of 2020. In this meeting, the ACRSM will address, consistent with its charter's mandate, topics related to the role of nongovernmental mechanisms in supporting the terrorism risk insurance market. The ACRSM will receive and discuss updates from its various subcommittees, addressing the financial sharing mechanisms of the Terrorism Risk Insurance Program (TRIP); nuclear, biological, chemical, and radiological risk and its treatment under TRIP; cyber insurance and associated certification issues under TRIP presented by cyber-related losses; and issues related to other risk-sharing mechanisms that engage in some amount of pre-funding of risk exposures.

Dated: January 14, 2020.
J. Tyler Williams,
Deputy Assistant Secretary for Financial Institutions Policy.

[FR Doc. 2020-00735 Filed 1-16-20; 8:45 am]

BILLING CODE 4810-25-P